DEPARTMENT OF HEALTH AND HUMAN SERVICES

Centers for Disease Control and Prevention

Subcommittee on Dose Reconstruction Reviews (SDRR), Advisory Board on Radiation and Worker Health (ABRWH or the Advisory Board), National Institute for Occupational Safety and Health (NIOSH); Notice of Cancellation

This notice was published in the Federal Register on September 8, 2011, Volume 76, Number 174, page 55678. This meeting, scheduled to convene on September 29, 2011, is canceled due to scheduling conflict arising for the Subcommittee chair. Notice will be provided when the meeting is rescheduled in accordance with section 10(a)(2) of the Federal Advisory Committee Act (Pub. L. 92-463).

Contact Person for More Information: Theodore M. Katz, M.P.A., Designated Federal Officer, NIOSH, CDC, 1600 Clifton Road, NE. Mailstop: E-20, Atlanta, Georgia 30333, Telephone: (513) 533-6800, Toll Free: 1-800-CDC-INFO, E-mail: ocas@cdc.gov.

The Director, Management Analysis and Services Office, has been delegated the authority to sign Federal Register notices pertaining to announcements of meetings and other committee management activities, for both the Centers for Disease Control and Prevention, and the Agency for Toxic Substances and Disease Registry.

Dated: September 16, 2011.
Elaine L. Baker,
Director, Management Analysis and Services Office, Centers for Disease Control and Prevention.

[FR Doc. 2011-24541 Filed 9-22-11; 8:45 am]

BILLING CODE 4163-18-P